DEPARTMENT OF ENERGY

Federal Energy Regulatory Commission

[Project No. 2894-013]

Flambeau Hydro, LLC; Notice of Meeting To Discuss the Black Brook Hydroelectric Project No. 2894 Supporting Design Report

a. Date and Time of Meeting: January 30, 2020 at 10 a.m. EST.

b. Place: Teleconference at FERC Headquarters, 888 First St NE, Washington, DC 20426.

c. FERC Contact: Michael Davis; Phone Number: 202-502-8339 or email at michael.davis@ferc.gov.

d. Purpose of Meeting: The purpose of this meeting is to discuss the Supporting Design Report (SDR) for the proposed relicensing of the Black Brook Hydroelectric Project.

e. Proposed Agenda:

(1) Discuss Expected Content of SDR

(2) Discuss Expected Timeline for SDR Submission

(3) Address Questions by Licensee

f. All local, state, and federal agencies, Indian tribes, and other interested parties are invited to participate by phone. Please call Michael Davis at (202) 502-8339 by January 28, 2020, to RSVP and to receive specific instructions on how to participate.

g. FERC conferences are accessible under section 508 of the Rehabilitation Act of 1973. For accessibility accommodations please send an email to accessibility@ferc.gov or call toll free (866) 208-3372 (voice) or 202-208-8659 (TTY), or send a FAX to 202-208-2106 with the required accommodations.

Dated: January 15, 2020.
Nathaniel J. Davis, Sr.,
Deputy Secretary.

[FR Doc. 2020-00962 Filed 1-21-20; 8:45 am]

BILLING CODE 6717-01-P>